DEPARTMENT OF HEALTH AND HUMAN SERVICES

Administration for Children and Families

AGENCY: Administration for Native Americans (ANA), HHS.

ACTION: Notice of Public Comment on the Proposed Adoption of ANA Program Policies and Procedures; Correction

SUMMARY: Pursuant to section 814 of the Native American Programs Act of 1974 (the Act) 42 U.S.C. 2992b-1, ANA herein describes its proposed interpretive rules, statements of general policy and rules of agency procedure or practice in relation to the Social and Economic Development Strategies (hereinafter referred to as SEDS), Native Language Preservation and Maintenance (hereinafter referred to as Native Language), Environmental Regulatory Enhancement (hereinafter referred to as Environmental), Environmental Mitigation (hereinafter referred to as Mitigation), Improving the Well-Being of Children—Native American Health Marriage Initiative (hereinafter referred to as Healthy Marriage) programs and any Special Initiatives. Under the statute, ANA is required to provide members of the public an opportunity to comment on proposed changes in interpretive rules, statements of general policy and rules of agency procedure or practice and to give notice of the final adoption of such changes at least thirty (30) days before the changes become effective. This Notice also provides additional information about ANA's plan for administering the programs.

FOR FURTHER INFORMATION CONTACT: Sheila K. Cooper, Director of Program Operations, toll-free at (877) 922-9262.

In the Federal Register Notice published on November 21, 2006 (Vol. 71, No. 224), make the following addition under Additional Information:

VI. ANA Administrative Policy

ANA is issuing a policy clarification statement. Currently, ANA has an administrative policy that states “An applicant can have only one active Social and Economic Development Strategies (SEDS) grant operating at any given time.” In addition to the regular SEDS competition, ANA currently conducts two special initiative awards programs under Section 803(a) of the Native American Programs Act, 42 U.S.C. 2991b(a). The two additional programs funded under the SEDS Catalog of Federal Domestic Assistance number 93.612 are the SEDS-Alaska and the Improving the Well-Being of Children: Native American Health Marriage Initiative (NAHMI). By issuing this statement, ANA is reinforcing the policy that applicants may submit only one application for SEDS or one application for NAHMI, but not for both. ANA will only accept for funding competition the first application submitted. If two applications are received from the same applicant at the same time, the applicant will be notified, prior to an eligibility determination, that only one application will be accepted. ANA will continue to enforce its policy that grantees cannot receive two or more grant awards under the SEDS category.

Dated: December 9, 2006.
Quanah Crossland Stamps,
Commissioner, Administration for Native Americans.

[FR Doc. 06-9834 Filed 12-21-06; 8:45 am]

BILLING CODE 4184-01-M